FEDERAL EMERGENCY MANAGEMENT AGENCY

[FEMA-1316-DR]

Alaska; Amendment No. 2 to Notice of a Major Disaster Declaration

AGENCY: Federal Emergency Management Agency (FEMA).

ACTION: Notice.

SUMMARY: This notice amends the notice of a major disaster for the State of Alaska (FEMA-1316-DR), dated February 17, 2000, and related determinations.

EFFECTIVE DATE: April 4, 2000.

FOR FURTHER INFORMATION CONTACT: Madge Dale, Response and Recovery Directorate, Federal Emergency Management Agency, Washington, DC 20472, (202) 646-3772.

SUPPLEMENTARY INFORMATION: The notice of a major disaster for the State of Alaska is hereby amended to include the following areas among those areas determined to have been adversely affected by the catastrophe declared a major disaster by the President in his declaration of February 17, 2000:

Aleutians East Borough, Bethel Census Area, Bristol Bay Borough, Dillingham Census Area, Denali Borough, Fairbanks North Star Borough, Kodiak Island Borough, Lake and Peninsula Borough, Southeast Fairbanks Census Area, and Wade Hampton Census Area for Public Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

Robert J. Adamcik,
Deputy Associate Director, Response and Recovery Directorate.

[FR Doc. 00-9069 Filed 4-11-00; 8:45 am]

BILLING CODE 6718-02-P